DEPARTMENT OF TRANSPORTATION

Federal Aviation Administration

14 CFR Part 39

[Docket No. 2001-NM-50-AD; Amendment 39-13236; AD 2003-14-17]

RIN 2120-AA64

Airworthiness Directives; Bombardier Model CL-600-2B19 (Regional Jet Series 100 & 440) Airplanes

AGENCY: Federal Aviation Administration, DOT.

ACTION: Final rule.

SUMMARY: This amendment adopts a new airworthiness directive (AD), applicable to certain Bombardier Model CL-600-2B19 (Regional Jet Series 100 & 440) airplanes, that requires the installation of protective tape on the fire and overheat control unit located in the flight compartment. The actions specified by this AD are intended to prevent fluid contamination inside the fire and overheat control unit, which could result in a false fire alarm and consequent emergency landing. This action is intended to address the identified unsafe condition.

DATES: Effective August 22, 2003.

The incorporation by reference of certain publications listed in the regulations is approved by the Director of the Federal Register as of August 22, 2003.

ADDRESSES: The service information referenced in this AD may be obtained from Bombardier, Inc., Canadair, Aerospace Group, P.O. Box 6087, Station Centreville, Montreal, Quebec H3C 3G9, Canada. This information may be examined at the Federal Aviation Administration (FAA), Transport Airplane Directorate, Rules Docket, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: James Delisio, Aerospace Engineer, Airframe and Propulsion Branch, ANE-171, FAA, New York Aircraft Certification Office, 10 Fifth Street, Third Floor, Valley Stream, New York 11581; telephone (516) 256-7512; fax (516) 568-2716.

SUPPLEMENTARY INFORMATION: A proposal to amend part 39 of the Federal Aviation Regulations (14 CFR part 39) to include an airworthiness directive (AD) that is applicable to certain Bombardier Model CL-600-2B19 series airplanes was published in the Federal Register on August 23, 2001 (66 FR 44326). That action proposed to require the installation of protective tape on the fire and overheat control unit located in the flight compartment.

Comments

Interested persons have been afforded an opportunity to participate in the making of this amendment. Due consideration has been given to the single comment received.

Request To Credit Work Done per Prior Service Bulletin Version

Bombardier Alert Service Bulletin A601R-26-017, Revision “A,” dated September 8, 2000, was cited in the proposed AD as the appropriate source of service information for the proposed actions. One commenter, an operator, requests that the proposed AD be revised to consider accomplishment of the actions specified in the original issue of the service bulletin (dated August 4, 2000) to also be acceptable for compliance with the requirements of the AD. The commenter reports that all of its 97 airplanes have been modified in accordance with the original issue of the service bulletin.

The FAA agrees. Both the original issue and Revision “A” of the service bulletin specify installing protective tape on the external cover of the fire and overheat control unit located in the flight compartment; the original issue of the service bulletin included an action for specifically installing protective tape over the connectors. The connectors were later determined to be adequately sealed to prevent liquid ingress to the control unit; Revision “A” was then issued to remove the action of taping the connectors. However, taping the connectors does not degrade the level of safety, so airplanes modified with the additional protective tape would also be in full compliance with the requirements of this AD. The final rule has been revised to add new paragraph (b), which provides credit for actions done in accordance with the original issue of the service bulletin.

Conclusion

After careful review of the available data, including the comment noted above, the FAA has determined that air safety and the public interest require the adoption of the rule with the change described previously. The FAA has determined that this change will neither increase the economic burden on any operator nor increase the scope of the AD.

Changes to 14 CFR Part 39/Effect on the Proposed AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the proposed AD regarding that material.

Change to Airplane Identification

The identity of the affected airplanes has been changed in this final rule to more accurately reflect the listing on the type certificate data sheet for affected airplanes.

Cost Impact

The FAA estimates that 160 airplanes of U.S. registry will be affected by this AD, that it will take approximately 1 work hour per airplane to accomplish the required actions, and that the average labor rate is $60 per work hour. Based on these figures, the cost impact of this AD on U.S. operators is estimated to be $9,600, or $60 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-14-17 Bombardier, Inc. (Formerly Canadair): Amendment 39-13236. Docket 2001-NM-50-AD.

Applicability: Model CL-600-2B19 (Regional Jet Series 100 & 440) airplanes, as listed in Bombardier Alert Service Bulletin A601R-26-017, Revision ‘A,’ dated September 8, 2000; certificated in any category.

Compliance: Required as indicated, unless accomplished previously.

To prevent fluid contamination inside the fire and overheat control unit, which could result in a false fire alarm and consequent emergency landing, accomplish the following:

Installation of Protective Tape

(a) Within 250 flight hours or 30 days after the effective date of this AD, whichever occurs first, install protective tape on the external cover of the fire and overheat control unit located in the flight compartment per Bombardier Alert Service Bulletin A601R-26-017, Revision ‘A,’ dated September 8, 2000.

(b) Installation of protective tape on the external cover of the fire and overheat control in the flight compartment, done before the effective date of this AD per Bombardier Alert Service Bulletin A601R-26-017, dated August 4, 2000, is acceptable for compliance with the requirements of this AD.

Alternative Methods of Compliance

(c) In accordance with 14 CFR 39.19, the Manager, New York Aircraft Certification Office (ACO), FAA is authorized to approve alternative methods of compliance for this AD.

Incorporation by Reference

(d) Unless otherwise provided in this AD: The actions must be done in accordance with Bombardier Alert Service Bulletin A601R-26-017, Revision ‘A,’ dated September 8, 2000. This incorporation by reference was approved by the Director of the Federal Register in accordance with 5 U.S.C. 552(a) and 1 CFR part 51. Copies may be obtained from Bombardier, Inc., Canadair, Aerospace Group, P.O. Box 6087, Station Centreville, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Note: The subject of this AD is addressed in Canadian airworthiness directive CF-2000-35, dated December 14, 2000.

Effective Date

(e) This amendment becomes effective on August 22, 2003.

Issued in Renton, Washington, on July 9, 2003.
Ali Bahrami,
Acting Manager, Transport Airplane Directorate, Aircraft Certification Service.

[FR Doc. 03-17816 Filed 7-17-03; 8:45 am]

BILLING CODE 4910-13-P